DEPARTMENT OF TRANSPORTATION

[Docket No. DOT-OST-2003-15962]

Agency Request for Extension of a Previously Approved Information Collection: Procedures and Evidence Rules for Air Carrier Authority Applications

AGENCY: Office of the Secretary, DOT.

ACTION: Notice and request for comments.

SUMMARY: The Department of Transportation (DOT) invites public comments about our intention to request the Office of Management and Budget (OMB) approval to extend an information collection. The collection involves anyone who wants to provide air transportation service. The information collected will be used to determine if the applicant meets the requirements to perform the proposed service and is necessary because of title 49 of the United States Code. We are required to publish this notice in the Federal Register by the Paperwork Reduction Act of 1995.

DATES: Written comments on this notice should be submitted by April 10, 2023.

ADDRESSES: You may submit comments identified by Docket No. DOT-OST-2003-15962 by any of the following methods:

• Website: http://www.regulations.gov. Follow the instructions for submitting comments on the DOT electronic docket site.

• Fax: 1-202-493-2251.

• Mail or Hand Delivery: Docket Operations Office, U.S. Department of Transportation, 1200 New Jersey Avenue SE, West Building, Room W12-140, Washington, DC 20590, between 9 a.m. and 5 p.m., Monday through Friday, except Federal Holidays.

FOR FURTHER INFORMATION CONTACT: Barbara Snoden, (202) 366-4834, Office of Aviation Analysis, Office of the Secretary, U.S. Department of Transportation, 1200 New Jersey Avenue SE, Washington, DC 20590.

SUPPLEMENTARY INFORMATION:

OMB Control Number: 2106-0023.

Title: Procedures and Evidence Rules for Air Carrier Authority Applications: 14 CFR part 201—Air Carrier Authority under Subtitle VII of Title 49 of the United States Code—(Amended); 14 CFR part 204—Data to Support Fitness Determinations; 14 CFR part 291—Cargo Operations in Interstate Air Transportation.

Type of Review: Extension of a previously approved information collection.

Background: To determine the fitness of persons seeking authority to engage in air transportation, the Department collects information from them about their ownership, citizenship, managerial competence, operating proposal, financial condition, and compliance history. The specific information to be filed by respondents is set forth in 14 CFR parts 201 and 204.

Respondents: Persons seeking initial or continuing authority to engage in air transportation of persons, property, and/or mail.

Estimated Number of Respondents: 69.

Frequency of collection: Occasional.

Estimated Number of responses: 207.

Average Annual Burden per Respondent: 60 hours.

Estimated Total Burden on Respondents: 10,215 hours.

Public Comments Invited: You are asked to comment on any aspect of this information collection, including (a) Whether the proposed collection of information is necessary for the Department's performance; (b) the accuracy of the estimated burden; (c) ways for the Department to enhance the quality, utility and clarity of the information collection; and (d) ways that the burden cold be minimized without reducing the quality of the collected information. The agency will summarize and/or include your comments in the request for OMB's clearance of this information collection.

Authority: The Paperwork Reduction Act of 1995; 44 U.S.C. Chapter 35, as amended; and 49 CFR 1:48.

Issued in Washington, DC, on February 2, 2023.
Lauralyn Jean Remo Temprosa,
Associate Director, Air Carrier Fitness Division, Office of Aviation Analysis.

[FR Doc. 2023-02586 Filed 2-6-23; 8:45 am]

BILLING CODE 4910-9X-P